ENVIRONMENTAL PROTECTION AGENCY

[FRL-9528-1]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 0161.12; Foreign Purchaser Acknowledgment Statement of Unregistered Pesticides; 40 CFR part 168, subpart D; was approved on 01/04/2013; OMB Number 2070-0027; expires on 01/31/2016; Approved without change.

EPA ICR Number 2263.04; NSPS for Petroleum Refineries for which Construction, Reconstruction, or Modification Commenced after May 14, 2007; 40 CFR part 60, subparts A and Ja; was approved on 01/07/2013; OMB Number 2060-0602; expires on 12/31/2015; Approved without change.

EPA ICR Number 1718.09; Fuel Quality Regulations for Diesel Fuel Sold in 2001 and Later Years; Tax-Exempt (Dyed) Highway Diesel Fuel; and Non-Road Locomotive and Marine Diesel Fuel (Renewal); 40 CFR 80.561 and 80.597; and 40 CFR part 80 subpart I; was approved on 01/19/2013; OMB Number 2060-0308; expires on 01/31/2016; Approved with change.

EPA ICR Number 2450.01; EPA's Design for the Environment (DfE) Partner of the Year Awards Program; was approved on 01/23/2013; OMB Number 2070-0184; expires on 01/31/2016; Approved with change.

EPA ICR Number 1901.05; NSPS for Emission Guidelines and Compliance Times for Small Municipal Waste Combustion Units Constructed on or before August 30, 1999; 40 CFR part 60, subparts A and BBBB; was approved on 01/29/2013; OMB Number 2060-0424; expires on 01/31/2016; Approved without change.

EPA ICR Number 1061.12; NSPS for the Phosphate Fertilizer Industry; 40 CFR part 60, subparts T, U, V, W and X; was approved on 01/30/2013; OMB Number 2060-0037; expires on 01/31/2016; Approved without change.

EPA ICR Number 1935.04; Standardized Permit for RCRA Hazardous Waste Management Facilities (Renewal); 40 CFR part 267; 40 CFR 270.290, 270.300-270.315; was approved on 01/30/2013; OMB Number 2050-0182; expires on 01/31/2016; Approved with change.

EPA ICR Number 2323.05; NESHAP for Chemical Manufacturing Area Sources; 40 CFR part 63, subparts A and VVVVVV; was approved on 01/30/2013; OMB Number 2060-0621; expires on 01/31/2016; Approved without change.

John Moses,
Director, Collections Strategies Division.

[FR Doc. 2013-02761 Filed 2-6-13; 8:45 am]

BILLING CODE 6560-50-P